FEDERAL HOUSING FINANCE BOARD

Sunshine Act Meeting Notice; Announcing a Closed Meeting of the Board of Directors

TIME AND DATE: A closed meeting of the Board of Directors is scheduled to begin at 10 a.m. on Wednesday, February 14, 2007.

PLACE: Board Room, First Floor, Federal Housing Finance Board, 1625 Eye Street NW., Washington DC 20006.

STATUS: The meeting will be closed to the public.

MATTERS TO BE CONSIDERED AT THE MEETING: Periodic Update of Examination Program Development and Supervisory Findings.

CONTACT PERSON FOR MORE INFORMATION: Shelia Willis, Paralegal Specialist, Office of General Counsel, at 202-408-2876 or williss@fhfb.gov.

By the Federal Housing Finance Board.
Dated: February 7, 2007.
Neil R. Crowley,
Acting General Counsel.

[FR Doc. 07-624 Filed 2-7-07; 4:38 pm]

BILLING CODE 6725-01-P